DEPARTMENT OF HOUSING AND URBAN DEVELOPMENT

[Docket No. FR-4800-FA-22]

Announcement of Funding Awards for Fiscal Year 2003; Community Development Work Study Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2003 Community Development Work Study Program (CDWSP). The purpose of this document is to announce the names and addresses of the award winners and the amount of the awards to be used to attract economically disadvantaged and minority students to careers in community and economic development, community planning and community management, and to provide a cadre of well-qualified professionals to plan, implement, and administer local community development programs.

FOR FURTHER INFORMATION CONTACT: Susan Brunson, Office of University Partnerships, U.S. Department of Housing and Urban Development, 451 Seventh Street, SW., Room 8106, Washington, DC 20410, telephone (202) 708-3061, ext. 3852. To provide service for persons who are hearing- or speech-impaired, this number may be reached via TTY by dialing the Federal Information Relay Service on (800) 877-8399, or (202) 708-1455. (Telephone numbers, other than the two “800” numbers, are not toll free.)

SUPPLEMENTARY INFORMATION: The CDWSP is administered by the Office of University Partnerships under the Assistant Secretary for Policy Development and Research. The Office of University Partnerships administers HUD's ongoing grant programs to institutions of higher education and creates initiatives which colleges and universities can bring their traditional missions of teaching, research, service, and outreach to bear on the pressing local problems in their communities.

The CDWSP was enacted in the Housing and Community Development Act of 1988. (Earlier versions of the program were funded by the Community Development Block Grant Technical Assistance Program from 1982 through 1987 and the Comprehensive Planning Assistance Program from 1969 through 1981.) Eligible applicants include institutions of higher education having qualifying academic degrees, and Area-wide planning organizations and states that apply on behalf of such institutions. The CDWSP funds graduate programs only. Each participating institution of higher education is funded for a minimum of three and maximum of five students under the CDWSP. The CDWSP provides each participating student up to $9,000 per year for a work stipend (for internship-type work in community building) and $5,000 per year for tuition and additional support (for books and travel related to the academic program). Additionally, the CDWSP provides the participating institution of higher education with an administrative allowance of $1,000 per student per year.

The Catalog of Federal Domestic Assistance number for this program is 14.512.

On April 25, 2003 (68 FR 21181), HUD published a Notice of Funding Availability (NOFA) announcing the availability of $2.981 million in FY 2003 funds for the CDWSP. The Department reviewed, evaluated and scored the applications received based on the criteria in the NOFA. As a result, HUD has funded the applications announced below, and in accordance with section 102(a)(4)(C) of the Department of Housing and Urban Development Reform Act of 1989 (103 Stat. 1987, U.S.C. 3545), the Department is publishing details concerning the recipients of funding awards, as set forth below.

List of Awardees for Grant Assistance Under the FY 2003 Community Development Work Study Program Funding Competition, by Name, Address, Phone Number, Grant Amount and Number of Students Funded

New England

1. The University of Vermont and State Agricultural College, Ms. Sarah Cooley, (802) 656-3360, Department of Community Development and Applied Economics, 340 Waterman Building, Burlington, VT 05405. Grant: $150,000 to fund 5 students.

2. Bridgewater State College, Dr. Frances Jefferies, (508) 531-1783, Political Science Department, Maxwell Library 200, Bridgewater, MA 02325. Grant: $150,000 to fund 5 students.

New York/New Jersey

3. Rutgers The State University of New Jersey, Ms. Kathe Newman, (732) 932-3133, Edward J. Bloustein School of Planning and Public Policy, Office of Research & Sponsored Program, 3 Rutgers Plaza, New Brunswick, NJ 08901. Grant: $150,000 to fund 5 students.

Mid-Atlantic

4. Howard University, Dr. Arthur S. Paul, (202) 806-5567, Center for Urban Progress, 2400 6th Street, Washington, DC 20059. Grant: $150,000 to fund 5 students.

Southeast/Caribbean

5. University of Alabama at Birmingham, Mr. Akhlaque Haque, (205) 934-4653, Department of Government—MPA Program, U238, 1530 3rd Avenue South, Birmingham, AL 35294. Grant: $150,000 to fund 5 students.

6. Alabama A&M University, Dr. Constance J. Wilson, (256) 372-5425, Department of Community Planning and Urban Studies, P.O. Box 411, Normal, AL 35762. Grant: $150,000 to fund 5 students.

7. Auburn University, Dr. Cal Clark, (334) 844-6460. Grant: $150,000 to fund 5 students.

8. University of Florida, Dr. Kristin Larsen, (352) 392-0997, Department of Urban and Regional Planning, P.O. Box 115706, Gainesville, FL 32611. Grant: $150,000 to fund 5 students.

9. Southern University, Dr. Valentine James, (225) 771-2043, Public Administration Unit, The Nelson Mandela School of Public Policy and Urban Affairs, P.O. 11280, Baton Rouge, LA 70823. Grant: $150,000 to fund 5 students.

10. North Carolina Central University, Mr. Tyrone Eaton, (919) 530-7333, Department of Public Administration, 1801 Fayetteville Street, Durham, NC 27707. Grant: $150,000 to fund 5 students.

11. East Carolina University, Mr. Carmine Scavo, (252) 328-4131, Department of Political Science, A-124 Brewster, Greenville, NC 27858. Grant: $150,000 to fund 5 students.

12. Savannah State University, Ms. Shirley M. Geiger, (912) 303-4348, Master of Public Administration, P.O. Box 20386, Savannah, GA 31404. Grant: $150,000 to fund 5 students.

Midwest

13. The University of Kansas Center for Research, Mr. John Nalbandian, (785) 864-9096, Department of Public Administration, 2385 Irving Hill Road, Lawrence, KS 66045. Grant: $150,000 to fund 5 students.

14. Kansas State University, Dr. Larry Lawhon, (785) 532-2445, Department of Landscape/Architecture/Regional & Community Planning, 2 Fairchild Hall, Manhattan, KS 66506. Grant: $126,500 to fund 5 students.

15. Wright State University, Ms Catherine Crosby, (937) 775-2422, Center for Urban and Public Affairs, 3640 Colonel Glenn Highway, Dayton, OH 45435. Grant: $150,000 to fund 5 students.

Southwest

16. University of Texas at El Paso, Dr. Paul C. Maxwell, (915) 747-6474, Institute for Policy and Economic Development, 500 West University Avenue, El Paso, TX 79968. Grant: $150,000 to fund 5 students.

Great Plains

17. University of Oregon, Ms. Megan Smith, (541) 346-3881, Community Service Center, 5219 University of Oregon, Eugene, OR 97403. Grant: $150,000 to fund 5 students.

Pacific/Hawaii

18. The Regents of the University of California, Ms. Patricia Gates, (510) 642-8109, Institute of Urban & Regional Development, 336 Sproul Hall, MC 5950, Berkeley, CA 94720. Grant: $150,000 to fund 5 students.

Northwest/Alaska

19. University of Washington, Ms. Carol Zuiches, Daniel J. Evans School of Public Affairs, 3935 University Way, NE., Seattle, WA 98195. Grant: $150,000 to fund 5 students.

Dated: June 7, 2006.
Darlene F. Williams,
Assistant Secretary for Policy Development and Research.

[FR Doc. E6-9552 Filed 6-16-06; 8:45 am]

BILLING CODE 4210-67-P